DEPARTMENT OF THE INTERIOR

Bureau of Land Management

[19X.LLAK930000.L13100000.EI0000.241A]

Call for Nominations and Comments for the Coastal Plain Alaska Oil and Gas Lease Sale

AGENCY: Bureau of Land Management, Interior.

ACTION: Notice.

SUMMARY: The Bureau of Land Management (BLM) Alaska State Office is issuing a call for nominations and comments on the lease tracts considered for the upcoming Coastal Plain (CP) Oil and Gas Lease Sale.

DATES: BLM Alaska must receive all nominations and comments on these tracts on or before December 17, 2020.

ADDRESSES: Mail nominations and/or comments to: State Director, Bureau of Land Management, Alaska State Office, 222 West 7th Avenue, Mailstop 13, Anchorage, AK 99513-7504.

FOR FURTHER INFORMATION CONTACT: Wayne Svejnoha, BLM Alaska Energy and Minerals Branch Chief, 907-271-4407. People who use a telecommunications device for the deaf (TDD) may call the Federal Relay Service (FRS) at 1-800-877-8339 to contact the above individual during normal business hours. The FRS is available 24 hours a day, 7 days a week, to leave a message or question with the above individual. You will receive a reply during normal business hours.

SUPPLEMENTARY INFORMATION: Pursuant to 43 CFR 3131.2, the BLM is issuing this call for nominations and comments on tracts within the Coastal Plain (CP) of the Arctic National Wildlife Refuge that may be offered for lease in the upcoming CP Oil and Gas Lease Sale. The BLM also requests comments on tracts which should receive special concern and analysis as well as the size of the tracts and, specifically, whether the sizes of any tracts should be reduced.

BLM will protect privileged or proprietary information in nominations in accordance with the Freedom of Information Act (FOIA) requirements. To avoid inadvertent release of such information, all documents and every page containing such information should be marked with “Confidential—Contains Proprietary Information.” To the extent a document contains a mix of proprietary and nonproprietary information, the document should be clearly marked to indicate which portion of the document is proprietary and which is not. Exemption 4 of FOIA applies to trade secrets and commercial or financial information that you submit that is privileged or confidential. BLM considers nominations of specific tracts to be proprietary, and therefore BLM will not release information that identifies any particular nomination or any particular submitting party, so as not to compromise the competitive position of any participants in the process of indicating interest.

However, BLM's practice is to make all comments, including the names and addresses of individuals, available for public inspection. Before including your address, phone number, email address, or other personal identifying information in your comments, you should be aware that your entire comment including your personal identifying information may be made publicly available at any time. While you can ask us in your comment to withhold your personal identifying information from public review, we cannot guarantee that we will be able to do so.

A Coastal Plain map showing the tracts considered for leasing is online at https://www.blm.gov/programs/energy-and-minerals/oil-and-gas/leasing/regional-lease-sales/alaska. Tract number 29 covers the disputed Staines-Canning River area. It is currently under litigation with the State of Alaska. The BLM may elect to not offer this tract in the upcoming sale.

To describe the tract(s) you are nominating for leasing or providing comments on, please use the tract number(s) on the referenced Coastal Plain map available at https://www.blm.gov/programs/energy-and-minerals/oil-and-gas/leasing/regional-lease-sales/alaska.

Chad B. Padgett,
State Director, Alaska.

[FR Doc. 2020-25316 Filed 11-16-20; 8:45 am]

BILLING CODE 4310-JA-P